DEPARTMENT OF COMMERCE

Foreign-Trade Zones Board

[S-169-2025]

Approval of Subzone Status; Michaels Stores Procurement Company, Inc.; Hazleton, Pennsylvania

On June 13, 2025, the Executive Secretary of the Foreign-Trade Zones (FTZ) Board docketed an application submitted by the Eastern Distribution Center, Inc., grantee of FTZ 24, requesting subzone status subject to the existing activation limit of FTZ 24, on behalf of Michaels Stores Procurement Company, in Hazleton, Pennsylvania.

The application was processed in accordance with the FTZ Act and Regulations, including notice in the Federal Register inviting public comment (90 FR 25992, June 18, 2025). The FTZ staff examiner reviewed the application and determined that it meets the criteria for approval. Pursuant to the authority delegated to the FTZ Board Executive Secretary (15 CFR 400.36(f)), the application to establish Subzone 24I was approved on July 31, 2025, subject to the FTZ Act and the Board's regulations, including section 400.13, and further subject to FTZ 24's 2,000-acre activation limit.

Dated: July 31, 2025.
Elizabeth Whiteman,
Executive Secretary.

[FR Doc. 2025-14843 Filed 8-4-25; 8:45 am]

BILLING CODE 3510-DS-P